DEPARTMENT OF THE INTERIOR

Bureau of Land Management

[AA-6679-B, AA-6679-C, AA-6679-F, AA-6679-G, AA-6679-K, AA-6679-M, AA-6679-A2, LLAK964000-L14100000-KC0000-P]

Alaska Native Claims Selection

AGENCY: Bureau of Land Management, Interior.

ACTION: Notice of Decision Approving Lands for Conveyance.

SUMMARY: As required by 43 CFR 2650.7(d), notice is hereby given that the Bureau of Land Management will issue an appealable decision approving the conveyance of the surface estate in certain lands pursuant to the Alaska Native Claims Settlement Act to Manokotak Natives Limited. The subsurface estate in these lands will be conveyed to Bristol Bay Native Corporation when the surface estate is conveyed to Manokotak Natives Limited. The lands are in the vicinity of Manokotak, Alaska, and located in:

Seward Meridian, Alaska

T. 13 S., R. 58 W.,

Secs. 5 to 8, inclusive;

Secs. 16, 17, and 18.

Containing approximately 4,376 acres.

T. 13 S., R. 59 W.,

Secs. 1, 2, and 3;

Secs. 10 to 13, inclusive.

Containing approximately 4,488 acres.

T. 12 S., R. 60 W.,

Secs. 7 and 8.

Containing approximately 1,273 acres.

T. 13 S., R. 60 W.,

Sec. 6.

Containing approximately 603 acres.

T. 13 S., R. 61 W.,

Sec. 1.

Containing approximately 640 acres.

Aggregating approximately 11,380 acres.

Notice of the decision will also be published four times in the Bristol Bay Times.

DATES: The time limits for filing an appeal are:

1. Any party claiming a property interest which is adversely affected by the decision shall have until April 19, 2010 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management (BLM) by phone at 907-271-5960, or by e-mail at ak.blm.conveyance@ak.blm.gov. Persons who use a telecommunication device (TTD) may call the Federal Information Relay Service at 1-800-877-8339, 24 hours a day, seven days a week, to contact the BLM.

Judy A. Kelley,
Land Law Examiner, Land Transfer Adjudication I Branch.

[FR Doc. 2010-6060 Filed 3-18-10; 8:45 am]

BILLING CODE 4310-JA-P